DEPARTMENT OF LABOR

Employment and Training Administration

[TA-W-41,759]

United Chair, First Source Furniture Group, Leeds, AL; Notice of Termination of Investigation

Pursuant to section 221 of the Trade Act of 1974, an investigation was initiated on June 24, 2002 in response to a petition filed by the company on behalf of workers at United Chair, First Source Furniture Group, Leeds, Alabama.

The petitioner has requested that the petition be withdrawn. Consequently, further investigation in this case would serve no purpose, and the investigation has been terminated.

Signed in Washington, DC, this 27th day of August, 2002.
Linda G. Poole,
Certifying Officer, Division of Trade Adjustment Assistance.

[FR Doc. 02-22972 Filed 9-9-02; 8:45 am]

BILLING CODE 4510-30-P